DEPARTMENT OF COMMERCE

International Trade Administration

[A-533-936]

Overhead Door Counterbalance Torsion Springs From India: Final Affirmative Determination of Sales at Less Than Fair Value and Final Affirmative Determination of Critical Circumstances

AGENCY: Enforcement and Compliance, International Trade Administration, Department of Commerce.

SUMMARY: The U.S. Department of Commerce (Commerce) determines that overhead door counterbalance torsion springs (overhead door springs) from India are being, or are likely to be, sold in the United States at less than fair value (LTFV). The period of investigation is October 1, 2023, through September 30, 2024.

DATES: Applicable December 31, 2025.

FOR FURTHER INFORMATION CONTACT: Seth Brown, AD/CVD Operations, Office IX, Enforcement and Compliance, International Trade Administration, U.S. Department of Commerce, 1401 Constitution Avenue NW, Washington, DC 20230; telephone: (202) 482-0029.

SUPPLEMENTARY INFORMATION:

Background

On June 2, 2025, Commerce published in the Federal Register its preliminary affirmative determination in the LTFV investigation of overhead door springs from India, in which we also postponed the final determination, and invited interested parties to comment on the Preliminary Determination.¹ On June 3, 2025, the sole mandatory respondent, Alcomex Springs Pvt Ltd. (Alcomex), withdrew its participation from this investigation.² On July 29, 2025, Commerce published in the Federal Register its preliminary affirmative determination of critical circumstances based on the June 24, 2025, timely-filed allegation by the IDC Group, Inc., Iowa Spring Manufacturing, Inc., and Service Spring Corp. (collectively, the petitioners).³

¹ See Overhead Door Counterbalance Torsion Springs from India: Preliminary Affirmative Determination of Sales at Less Than Fair Value, Postponement of Final Determination, and Extension of Provisional Measures, 90 FR 23316 (June 2, 2025) (Preliminary Determination), and accompanying Preliminary Decision Memorandum.

² See Alcomex's Letter, “Alcomex's Withdrawal of Participation from Investigation,” dated June 3, 2025.

³ See Overhead Door Counterbalance Torsion Springs from India and the People's Republic of China: Preliminary Affirmative Determinations of Critical Circumstances, In Part, in the Less-Than-Fair Value Investigations, 90 FR 35662 (July 29, 2025) (Preliminary Critical Circumstances Determination).

Due to the lapse in appropriations and Federal Government shutdown, on November 14, 2025, Commerce tolled all deadlines in administrative proceedings by 47 days.⁴ Additionally, due to a backlog of documents that were electronically filed via Enforcement and Compliance's Antidumping and Countervailing Duty Centralized Electronic Service System (ACCESS) during the Federal Government shutdown, on November 24, 2025, Commerce tolled all deadlines in administrative proceedings by an additional 21 days.⁵ Accordingly, the deadline for this final determination is now December 22, 2025.

⁴ See Memorandum, “Deadlines Affected by the Shutdown of the Federal Government,” dated November 14, 2025.

⁵ See Memorandum, “Tolling of all Case Deadlines,” dated November 24, 2025.

For a complete description of the events that followed the Preliminary Determination and Preliminary Critical Circumstances Determination, see the Issues and Decision Memorandum.⁶ The Issues and Decision Memorandum is a public document and is on file electronically via ACCESS. ACCESS is available to registered users at https://access.trade.gov. In addition, a complete version of the Issues and Decision Memorandum can be accessed directly at https://access.trade.gov/public/FRNoticesListLayout.aspx.

⁶ See Memorandum, “Issues and Decision Memorandum for the Final Affirmative Determination in the Less-Than-Fair-Value Investigation of Overhead Door Counterbalance Torsion Springs from India,” dated concurrently with, and hereby adopted by, this notice (Issues and Decision Memorandum).

Scope of the Investigation

The products covered by this investigation are overhead door springs from India. For a complete description of the scope of this investigation, see Appendix I.

Scope Comments

We received no comments from interested parties on the scope of the investigation as it appeared in the Preliminary Determination. Therefore, we made no changes to the scope of the investigation from that published in the Preliminary Determination for the final determination.

Verification

Alcomex informed Commerce prior to verification that it was withdrawing from participation as a mandatory respondent in this investigation.⁷ Accordingly Commerce was unable to conduct verification under section 782(i)(1) of the Tariff Act of 1930, as amended (the Act).

⁷ See Alcomex's Letter, “Alcomex's Withdrawal of Participation from Investigation,” dated June 3, 2025.

Analysis of Comments Received

All issues raised by interested parties in this investigation are addressed in the Issues and Decision Memorandum. A list of the issues addressed in the Issues and Decision Memorandum is attached to this notice as Appendix II.

Use of Adverse Facts Available (AFA)

Because Alcomex withdrew from participation in this investigation prior to verification, we determine that Alcomex's data cannot serve as a reliable basis for reaching a determination in this investigation because this data could not be verified. We further determine that Alcomex significantly impeded the investigation and did not act to the best of its ability to comply with our requests for information. Therefore, we also find it appropriate to base Alcomex's dumping margin on AFA. For further discussion, see the Issues and Decision Memorandum.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act. We cannot apply the methodology described in section 735(c)(5)(A) of the Act to calculate the all-others rate, as the margin applied in this final determination is determined entirely under section 776 of the Act.

Pursuant to section 735(c)(5)(B) of the Act, if the estimated weighted-average dumping margins established for all exporters and producers individually examined are zero, de minimis, or determined based entirely on facts otherwise available, Commerce may use any reasonable method to establish the estimated weighted-average dumping margin for all other producers or exporters. In cases where dumping margins are determined entirely under section 776 of the Act for individually examined entities, Commerce's normal practice under these circumstances is to calculate the all-others rate as a simple average of the alleged dumping margins from the petition.⁸ Therefore, as the all-others rate, we are assigning the simple average of the dumping margins alleged in the petition, which is 86.45 percent.⁹ For a full description of the methodology underlying Commerce's analysis, see the Issues and Decision Memorandum.

⁸ See, e.g., Notice of Preliminary Determination of Sales at Less Than Fair Value: Sodium Nitrite from the Federal Republic of Germany, 73 FR 21909, 21912 (April 23, 2008), unchanged in Notice of Final Determination of Sales at Less Than Fair Value: Sodium Nitrite from the Federal Republic of Germany, 73 FR 38986, 38987 (July 8, 2008), and accompanying Issues and Decision Memorandum at Comment 2; see also Notice of Final Determination of Sales at Less Than Fair Value: Raw Flexible Magnets from Taiwan, 73 FR 39673, 39674 (July 10, 2008); and Steel Threaded Rod from Thailand: Preliminary Determination of Sales at Less Than Fair Value and Affirmative Preliminary Determination of Critical Circumstances, 78 FR 79670, 79671 (December 31, 2013), unchanged in Steel Threaded Rod from Thailand: Final Determination of Sales at Less Than Fair Value and Affirmative Final Determination of Critical Circumstances, 79 FR 14476, 14477 (March 14, 2014).

⁹ See Overhead Door Counterbalance Torsion Springs From the People's Republic of China and India: Initiation of Less-Than-Fair-Value Investigations, 89 FR 92895, 92898 (November 25, 2024).

Final Determination

The final estimated weighted-average dumping margins are as follows:

Producer or exporter | Estimated weighted-average dumping margin (percent) | Cash deposit rate (adjusted for subsidy offsets) (percent)
Alcomex Springs Pvt Ltd | * 126.14 | 100.45
Asha Spring and Engineering Company | * 126.14 | 100.45
Balaji Springs Pvt. Ltd | * 126.14 | 100.45
Modern Engineering & Spring Company | * 126.14 | 100.45
Reliable Springs Ltd | * 126.14 | 100.45
All Others | 86.45 | 60.76
* This rate is based on facts available with adverse inferences.

Disclosure

Because Commerce applied AFA to the sole mandatory respondent in this investigation, Alcomex, in accordance with section 776 of the Act, and the applied AFA rate is based solely on the petition, there are no calculations to disclose for this final determination, pursuant to 19 CFR 351.224(b).

Suspension of Liquidation

In accordance with sections 733(d)(1)(B) and (e)(2)(A) of the Act, we instructed U.S. Customs and Border Protection (CBP) to suspend liquidation of all entries of overhead door springs from India, as described in Appendix I of this notice, which were entered or withdrawn from warehouse for consumption on or after March 4, 2025, 90 days prior to the date of publication of the Preliminary Determination of this investigation in the Federal Register. In accordance with section 733(d) of the Act, we instructed CBP to discontinue the suspension of liquidation of all entries of subject merchandise entered or withdrawn from warehouse, on or after November 29, 2025, but to continue the suspension of liquidation of all entries of subject merchandise on or before November 28, 2025.

If the U.S. International Trade Commission (ITC) issues a final affirmative injury determination, we will issue an antidumping duty order, reinstate the suspension of liquidation under section 736(a) of the Act, and require a cash deposit of estimated antidumping duties for such entries of subject merchandise in the amounts indicated above, in accordance with section 736(a) of the Act. If the ITC determines that material injury, or threat of material injury, does not exist, this proceeding will be terminated, and all estimated duties deposited or securities posted as a result of the suspension of liquidation will be refunded or canceled.

U.S. International Trade Commission (ITC) Notification

In accordance with section 735(d) of the Act, we will notify the ITC of the final affirmative determination of sales at LTFV. Because Commerce's final determination is affirmative, in accordance with section 735(b)(2) of the Act, the ITC will make its final determination as to whether the domestic industry in the United States is materially injured, or threatened with material injury, by reason of imports or sales (or the likelihood of sales) of overhead door springs from India no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Administrative Protective Order (APO)

This notice also serves as a final reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification of Interested Parties

This final determination and notice are issued and published in accordance with sections 735(d) and 777(i) of the Act and 19 CFR 351.210(c).

Dated: December 22, 2025.
Christopher Abbott,
Deputy Assistant Secretary for Policy and Negotiations,performing the non-exclusive functions and duties of the Assistant Secretary for Enforcement and Compliance.

Appendix I

Scope of the Investigation

The merchandise covered by this investigation is helically-wound, overhead door counterbalance torsion steel springs (overhead door counterbalance torsion springs) and any cones, plugs or other similar fittings for mounting and creating torque in the spring (herein collectively referred to as cones) attached to or entered with and invoiced with the subject overhead door counterbalance torsion springs. Overhead door counterbalance torsion springs are helical steel springs with tightly wound coils that store and release mechanical energy by winding and unwinding along the spring's axis by an angle, using torque to create a lifting force in the counterbalance assembly typically used to raise and lower overhead doors, including garage doors, industrial rolling doors, warehouse doors, trailer doors, and other overhead doors, gates, grates, or similar devices. The merchandise covered by this investigation covers all overhead door counterbalance torsion springs with a coil inside diameter of 15.8 millimeters (mm) or more but not exceeding 304.8 mm (measured across the diameter from inner edge to inner edge); a wire diameter of 2.5 mm to 20.4 mm; a length of 127 mm or more; and regardless of the following characteristics:

• wire type (including, but not limited to, oil-tempered wire, hard-drawn wire, music wire, galvanized or other coated wire);

• wire cross-sectional shape (e.g., round, square, or other shapes);

• coating (e.g., uncoated, oil- or water-based coatings, lubricant coatings, zinc, aluminum, zinc-aluminum, paint or plastic coating, etc.);

• winding orientation (left-hand or right-hand wind direction);

• end type (including, but not limited to, looped, double looped, clipped, long length, mini warehouse, Barcol, Crawford, Kinnear, Wagner, rolling steel or barrel ends); and

• whether the overhead door counterbalance torsion springs are fitted with hardware, including but not limited to fasteners, clips, and cones (winding or stationary cones).

For purposes of the diameters referenced above, where the nominal and actual measurements vary, a product is within the scope if application of either the nominal or actual measurement would place it within the scope based on the definitions set forth above.

The steel torsion springs included in the scope of this investigation are produced from steel in which: (1) iron predominates, by weight, over each of the other contained elements; and (2) the carbon content is 2 percent or less, by weight.

Subject merchandise includes cones attached to or entered with and invoiced with the subject overhead door counterbalance torsion springs. Such cones, which are typically cast aluminum, aluminum alloy or steel (but may be made from other materials) are made to mount the subject springs to the overhead door counterbalance system and create and maintain torque in the spring. Cones or other similar fittings that are not attached to the subject springs or are not entered with and invoiced with the subject springs are not included within the scope unless entered as parts of kits as described below.

Subject merchandise also includes all subject overhead door counterbalance torsion springs and cones or other similar fittings for mounting and tensioning the spring entered as a part of overhead door kits, overhead door mounting or assembly kits, or as a part of a spring-operated motor assembly or as a part of a spring winder assembly kit for torsion springs. When counterbalance torsion springs and cones or other similar fittings for attaching and tensioning the torsion spring are entered as a part of such kits, only the counterbalance spring and cones or other similar fittings in the kit are within scope.

Subject merchandise also includes overhead door counterbalance torsion springs that have been further processed in a third country, including but not limited to cutting to length, attachment of hardware, cones or end-fittings, inclusion in garage door kits or garage door mounting or assembly kits, or any other processing that would not remove the merchandise from the scope of this investigation if performed in the country of manufacture of the in-scope overhead door counterbalance torsion springs.

All products that meet the written physical description are within the scope of this investigation unless specifically excluded. The following products are specifically excluded from the scope of this investigation:

• leaf springs (slender arc-shaped length of spring steel of a rectangular cross-section);

• disc springs (conical springs consisting of a convex disc with the outer edge working against the center of the disc);

• extension springs (close-wound round helical wire springs that store and release energy by resisting the external pulling forces applied to the spring's ends in the direction of its length);

• compression springs (helical coiled springs with open wound active coils (such open winding is also known as pitch) that are designed to compress under load or force); and

• spiral springs (torsion springs wound as concentric spirals such as a clock spring or mainspring).

The products subject to this investigation are currently classified under Harmonized Tariff Schedule of the United States (HTSUS) subheadings 7320.20.5020, 7320.20.5045, and 7320.20.5060. They may also be classified under HTSUS subheading 8412.90.9085 if entered as parts of spring-operated motors. They may also be classified in HTSUS subheading 8412.80.1000 (spring-operated motors) if entered as part of a spring counterweight assembly for an overhead door. They may also be classified in HTSUS subheading 7308.90.9590, a basket category that includes metal garage doors entered with mounting accessories or assemblies. Although the HTSUS subheadings are provided for convenience and customs purposes, the written description of the scope of this investigation is dispositive.

Appendix II

List of Topics Discussed in the Issues and Decision Memorandum

I. Summary

II. Background

III. Final Affirmative Determination of Critical Circumstances

IV. Discussion of the Issues

Comment 1: Whether to Apply Adverse Facts Available (AFA) to Alcomex

Comment 2: Whether to Revise the Total AFA Rate for the Non-Responsive Companies

Comment 3: Whether to Assign the Highest Petition Margin as the All-Others Rate

V. Recommendation

[FR Doc. 2025-24031 Filed 12-30-25; 8:45 am]

BILLING CODE 3510-DS-P